FEDERAL COMMUNICATIONS COMMISSION

47 CFR Part 73

[DA 03-2038; MM Docket No. 02-382; RM-10615]

Radio Broadcasting Services; Bridgeton, Pennsauken, NJ

AGENCY: Federal Communications Commission.

ACTION: Final rule.

SUMMARY: This document at the request of Cohanzick Broadcasting Corporation, licensee of Station WSNJ-FM and New Jersey Radio Partners, Inc, substitutes Channel 300A for Channel 299B at Bridgeton, New Jersey, reallots Channel 300A from Bridgeton to Pennsauken, New Jersey, as the community's first local transmission service, and modifies the license for Station WSNJ-FM to reflect the change. Opposing comments were filed by the School District of Haverford Township, licensee of Class D Station WHHS, Channel 300D, Havertown, Pennsylvania, West Windsor Plainsboro Regional School District, licensee of Class D Station WWPH, Channel 300D, Princeton, New Jersey, and David Brouda and David C. Weston, former students at Haverford Township. Channel 300A is allotted at Pennsauken at a site 6.1 kilometers (3.8 miles) northeast of the community at coordinates 40-00-12 NL and 75-01-19 WL.

DATES: Effective August 7, 2003.

ADDRESSES: Secretary, Federal Communications Commission, Washington, DC 20554.

FOR FURTHER INFORMATION CONTACT: Victoria M. McCauley, Media Bureau, (202) 418-2180.

SUPPLEMENTARY INFORMATION: This is a synopsis of the Commission's Report and Order, MB Docket No. 02-382, adopted June 18, 2003, and released June 23, 2003. The full text of this Commission decision is available for inspection and copying during normal business hours in the FCC's Reference Information Center at Portals II, CY-A257, 445 Twelfth Street, SW., Washington, DC. This document may also be purchased from the Commission's duplicating contractors, Qualex International, Portals II, 445 12th Street SW., Room CY-B402, Washington, DC 20554, telephone 202-863-2893, or via e-mail qualexint@aol.com

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under New Jersey, is amended by removing Bridgeton, Channel 300A and by adding Pennsauken, Channel 300A.

Federal Communications Commission.
John A. Karousos,
Assistant Chief, Audio Division, Media Bureau.

[FR Doc. 03-17832 Filed 7-14-03; 8:45 am]

BILLING CODE 6712-01-P